DEPARTMENT OF COMMERCE

National Oceanic and Atmospheric Administration

50 CFR Part 648

[I.D. 111601C]

New England Fishery Management Council; Public Hearings

AGENCY: National Marine Fisheries Service (NMFS), National Oceanic and Atmospheric Administration (NOAA), Commerce.

ACTION: Notification of public hearings; request for comments.

SUMMARY: The New England Fishery Management Council (Council) will hold a series of public hearings to solicit comments on proposals to be included in the Deep-sea Red Crab Fishery Management Plan (FMP).

DATES: Written comments on the proposals will be accepted from November 30, 2001, through January 7, 2002. The public hearings will be held on December 14, 2001, and December 17, 2001. See SUPPLEMENTARY INFORMATION for specific locations and times.

ADDRESSES: To obtain copies of the public hearing document or to submit comments, contact Paul J. Howard, Executive Director, New England Fishery Management Council, 50 Water Street, Mill 2, Newburyport, MA 01950. Identify correspondence as “Comments on Red Crab Management.” Comments may also be sent via facsimile (fax) to (978) 465-3116. Comments will not be accepted if submitted via e-mail or the Internet. Hearings will be held in Massachusetts. Requests for special accommodations should be addressed to the New England Fishery Management Council, 50 Water Street, Mill 2, Newburyport, MA 01950; telephone: (978) 465-0492. For the specific locations of the public hearings, see SUPPLEMENTARY INFORMATION.

FOR FURTHER INFORMATION CONTACT: Paul J. Howard, (978) 465-0492.

SUPPLEMENTARY INFORMATION: The Council proposes to take action to implement a management program for the deep-sea red crab (Chaceon quinquedens) fishery and to address the requirements of the Magnuson-Stevens Fishery Conservation and Management Act, as amended by the Sustainable Fisheries Act of 1996. The Council will consider comments from fishermen, interested parties, and the general public on the proposals and alternatives described in the public hearing document for the Red Crab FMP. Once it has considered public comments, the Council will approve final management measures and prepare a submission package for NMFS. There will be an additional opportunity for public comment when the Notice of Availability for the Fishery Management Plan and the proposed rule for this action are published in the Federal Register.

Major elements of the proposals in this public hearing document include: (1) Management options that include restrictions on the retention of female crabs, possession limits, restrictions on the processing of red crabs at sea, limits on the number of traps employed by each vessel, gear restrictions, a prohibition on all non-trap/pot gear in the directed red crab fishery, and an allocation of a maximum number of days-at-sea (DAS) for all vessels authorized to participate in the directed red crab fishery; (2) development of a controlled access program for the directed red crab fishery that relies on documented landings of red crab prior to the red crab control date (March 1, 2000, 65 FR 11029); (3) identification of the management unit for red crab; (4) specification of the red crab fishing year; (5) specification of optimum yield (OY) from the fishery; (6) selection of a new overfishing definition for red crab; (7) designation of essential fish habitat (EFH) for each life history stage of the species; (8) permits and reporting will be required of all vessels and dealers participating in the red crab fishery; (9) development of a monitoring and adjustment mechanism for this plan including an annual specifications process and a framework adjustment process; (10) an incidental catch possession limit for all vessels not authorized to participate in the directed red crab fishery; and (11) additional measures which the Council may consider implementing at a future date. The Council will consider all comments received on these proposals from November 30, 2001, until the end of the comment period on January 7, 2002.

Public Hearing Dates

The dates, times, locations, and telephone numbers of the hearings are as follows:

Friday, December 14, 2001, 2:00 p.m.— Sawyer Free Library, 2 Dale Ave, Gloucester, MA 01930; telephone: (978) 281-9763; and

Monday, December 17, 2001, 3:00 p.m.— University of Massachusetts School of Marine Science and Technology (SMAST), 706 Rodney French Boulevard, New Bedford, MA 02744; telephone (508) 910-6353.

Special Accommodations

These hearings are physically accessible to people with disabilities. Requests for sign language interpretation or other auxiliary aids should be directed to Paul J. Howard (see ADDRESSES) at least 5 days prior to the meeting dates.

Dated: November 20, 2001.
Jonathan M. Kurland,
Acting Director, Office of Sustainable Fisheries, National Marine Fisheries Service.

[FR Doc. 01-29602 Filed 11-27-01; 8:45 am]

BILLING CODE 3510-22-S